FEDERAL COMMUNICATIONS COMMISSION

47 CFR Part 73

[DA 00-2031, MM Docket No. 00-163, RM-9934]

Digital Television Broadcast Service; Thief River Falls, MN

AGENCY: Federal Communications Commission.

ACTION: Proposed rule.

SUMMARY: The Commission requests comments on a petition filed by Red River Broadcast Company, LLC, licensee of station KBRR(TV), NTSC Channel 10, Thief River Falls, Minnesota, requesting substitution of DTV Channel 32 for station KBRR(TV)'s assigned DTV Channel 57. DTV Channel 32 can be allotted to Thief River Falls, Minnesota, in compliance with the principle community coverage requirements of Section 73.625(a) at reference coordinates (48-01-19 N. and 96-22-12 W.). However, since the community of Thief River Falls is located within 400 kilometers of the U.S.-Canadian border, concurrence by the Canadian government must be obtained for this proposal. As requested, we propose to allot DTV Channel 32 to Thief River Falls with a power of 1000 and a height above average terrain (HAAT) of 183 meters.

DATES: Comments must be filed on or before October 30, 2000, and reply comments on or before November 14, 2000.

ADDRESSES: Federal Communications Commission, 445 12th Street, S.W., Room TW-A325, Washington, DC 20554. In addition to filing comments with the FCC, interested parties should serve the petitioner, or its counsel or consultant, as follows: John T. Scott, III, Crowell & Moring LLP, 1001 Pennsylvania Avenue, NW, Washington, DC 20004 (Counsel for Red River Broadcast Company).

FOR FURTHER INFORMATION CONTACT: Pam Blumenthal, Mass Media Bureau, (202) 418-1600.

SUPPLEMENTARY INFORMATION: This is a synopsis of the Commission's Notice of Proposed Rule Making, MM Docket No. 00-163, adopted September 7, 2000, and released September 8, 2000. The full text of this Commission decision is available for inspection and copying during normal business hours in the FCC Reference Center 445 12th Street, S.W., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-23272 Filed 9-8-00; 8:45 am]

BILLING CODE 6712-01-P